DEPARTMENT OF ENERGY

Federal Energy Regulatory Commission

[P-12514-000]

Northern Indiana Public Service Company; Notice of Scoping Meetings and Site Visits and Soliciting Scoping Comments

April 21, 2005.

Take notice that the following hydroelectric application has been filed with the Commission and is available for public inspection:

a. Type of Application: Original Major License.

b. Project No: 12514-000.

c. Date Filed: June 28, 2004.

d. Applicant: Northern Indiana Public Service Company (NIPSCO).

e. Name of Project: Norway-Oakdale Hydroelectric Project.

f. Location: On the Tippecanoe River in Carroll and White counties, Indiana. The project does not affect Federal lands.

g. Filed Pursuant to: Federal Power Act, 16 U.S.C. 791(a)-825(r).

h. Applicant Contact: Jerome B. Weeden, Vice President Generation; Northern Indiana Public Service Company; 801 East 86th Avenue; Merrillville, IN 46410; (219) 647-5730.

i. FERC Contact: Sergiu Serban at (202) 502-6211 or sergiu.serban@ferc.gov.

j. Deadline for filing scoping comments: May 31, 2005.

All documents (original and eight copies) should be filed with Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) through the Commission's eLibrary using the “Documents & Filing” link.

k. This application is not ready for environmental analysis at this time.

l. Description of the Project: The existing Norway-Oakdale Hydroelectric Project consists of the Norway development and the Oakdale development and has a combined installed capacity of 16.4 megawatts (MW). The project produces an average annual generation of 65,000 megawatt-hours (MWh). All power is dispatched directly into the local grid and is used within the East Central Area Reliability Coordination Agreement.

The Norway development includes the following constructed facilities: (1) A 915-foot-long dam consisting of (a) a 410-foot-long, 34-foot-maximum-height earth fill embankment with a concrete core wall; (b) a 225-foot-long, 29-foot-high concrete gravity overflow spillway with flashboards; (c) a 120-foot-long, 30-foot-high concrete gated spillway with three 30-foot-wide, 22-foot-high spillway gates; (d) an 18-foot-wide, 30-foot-high trash sluice housing with one 8-foot-wide, 11-foot-high gate; and (e) a 142-foot-long, 64-foot-wide powerhouse integral with the dam containing four vertical Francis turbine-generating units with a rated head of 28 feet, total hydraulic capacity of 3,675 cubic feet per second (cfs), and a total electric output of 7.2 MW; (2) a 10-mile-long, 10-foot average depth, 1,291-acre reservoir; (3) a 2-mile-long, 69,000-volt transmission line; and (4) appurtenant facilities.

The Oakdale development includes the following constructed facilities: (1) A 1,688-foot-long dam consisting of (a) a 126-foot-long, 58-foot maximum-height east concrete buttress and slab dam connecting the left abutment to the powerhouse; (b) a 114-foot-long, 70-foot-wide powerhouse integral with the dam containing three vertical Francis turbine-generating units with a rated head of 42 to 48 feet, total hydraulic capacity of 3,200 cfs and a total electric output of 9.2 MW; (c) an 18-foot-wide structure containing a nonfunctional fish ladder and a gated trash sluice; (d) an 84-foot-long ogee-shaped concrete gated spillway with two 30-foot-wide, 22-foot-high vertical lift gates; (e) a 90-foot-long, six bay concrete gravity siphon-type auxiliary spillway; and (f) a 1,260-foot-long, west earth embankment with a maximum height of 58 feet and a 30-foot-wide crest; (2) a 10-mile-long, 16-foot-average depth, 1,547-acre reservoir; and (3) appurtenant facilities.

m. A copy of the application is available for review at the Commission in the Public Reference Room or may be viewed on the Commission's Web site at http://www.ferc.gov using the “eLibrary” link. Enter the docket number, excluding the last three digits in the docket number field (P-12514), to access the document. For assistance, contact FERC Online Support at FERCOnlineSupport@ferc.gov; call toll-free at (866) 208-3676; or, for TTY, call (202) 502-8659. A copy is also available for inspection and reproduction at the address in item h above.

You may also register online at http://www.ferc.gov/esubscribenow.htm to be notified via e-mail of new filings and issuances related to this or other pending projects. For assistance, contact FERC Online Support.

n. Scoping Process: The Commission intends to prepare a single environmental document in accordance with the National Environmental Policy Act. The environmental assessment (EA) will consider both site-specific and cumulative environmental effects and reasonable alternatives to the proposed action.

Site Visit: NIPSCO and the Commission staff will conduct a project site visit on May 18, 2005. We will meet at the Norway Powerhouse and then proceed to the project power plants. Site visitors will be responsible for their own transportation. Anyone with questions regarding the site visits, including directions, should contact Mike Canner of NIPSCO at (219) 956-5163.

Date: Wednesday, May 18, 2005.

Time: 8:45 am (c.s.t.).

Place: Norway Powerhouse.

Scoping Meetings

Commission staff will conduct two public scoping meetings in the project area to solicit comments and viewpoints the public may wish to offer concerning project effects associated with the Norway and Oakdale developments. The evening meeting will focus on input from the public, and the morning meeting will focus on resource agency concerns. We invite all interested agencies, nongovernmental organizations, Native American tribes, and individuals to attend one or both of the meetings to help us identify the scope of environmental issues to be analyzed in the EA. The times and locations of these meetings are as follows:

Public Scoping Meeting

Date: May 18, 2005.

Time: 7 p.m. (c.s.t.).

Place: Best Western Brandywine Complex.

Address: 728 South Sixth Street, Monticello, IN 47960.

Agency Scoping Meeting:

Date: May 19, 2005.

Time: 10 a.m.

Place: Best Western Brandywine Complex.

Address: 728 South Sixth Street, Monticello, IN 47960.

Copies of the Scoping Document (SD1) outlining the subject areas to be addressed in the EA will be available at the scoping meetings or may be viewed on the Commission's Web site at http://www.ferc.gov using the “eLibrary” link [see item (m) above]. These meetings are posted on the Commission's calendar located on the Internet at http://www.ferc.gov/EventCalendar/EventsList.aspx along with other related information.

Objectives: At the scoping meetings, staff will (1) Summarize the environmental issues tentatively identified for analysis in the EA; (2) solicit from the meeting participants all available information, especially empirical data, on the resources at issue; (3) encourage statements from experts and participants on issues that should be analyzed in the EA, including viewpoints in opposition to, or in support of, the staff's preliminary view; (4) determine the resource issues to be addressed in the EA; and (5) identify those issues that do not require a detailed analysis.

Procedures: The meetings will be recorded by a stenographer and become part of the formal record of the Commission proceeding on the project.

Individuals, organizations, resource agencies, and Indian tribes with environmental expertise and concerns are encouraged to attend the meetings and to assist Commission staff in defining and clarifying the issues to be addressed in the EA.

Magalie R. Salas,
Secretary.

[FR Doc. E5-2020 Filed 4-27-05; 8:45 am]

BILLING CODE 6717-01-P